DEPARTMENT OF TRANSPORTATION

Federal Aviation Administration

14 CFR Part 71

[Docket No. FAA-2013-1062; Airspace Docket No. 13-ACE-3]

RIN 2120-AA66

Modification of Air Traffic Service (ATS) Routes; North Central United States

AGENCY: Federal Aviation Administration (FAA), DOT.

ACTION: Final rule.

SUMMARY: This action modifies three Jet Routes (J-45, J-151, and J-233) and a high altitude area navigation (RNAV) route (Q-19). The FAA is taking this action due to a service restriction of the Des Moines, IA (DSM), VHF Omnidirectional Range (VOR)/Tactical Air Navigation (VORTAC) facility that provides navigation guidance for a portion of the ATS routes identified.

DATES: Effective Date: 0901 UTC, July 24, 2014. The Director of the Federal Register approves this incorporation by reference action under 1 CFR part 51, subject to the annual revision of FAA Order 7400.9 and publication of conforming amendments.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On Wednesday, January 22, 2014, the FAA published in the Federal Register a notice of proposed rulemaking (NPRM) to modify J-45, J-151, J-233, and Q-19 in the vicinity of the DSM VORTAC, Des Moines, IA (79 FR 3545). Interested parties were invited to participate in this rulemaking effort by submitting written comments on this proposal to the FAA. No comments were received in response to the NPRM.

Differences From the NPRM

Subsequent to publication of the NPRM, an error in the J-233 route description format was identified. Airway and route legal descriptions are published in FAA Order 7400.9X, Airspace Designations and Reporting Points. Current format guidelines for these legal descriptions require that the order of points in a description be listed from “south-to-north” or from “west-to-east,” as applicable. The description for J-233 in the NPRM listed the points from “north-to-south,” in error. The rule simply reverses the order of the points listed for J-233 to a “south-to-north” format for standardization. The route structure is unchanged from that proposed in the NPRM.

The Rule

This action amends Title 14, Code of Federal Regulations (14 CFR) part 71 by modifying Jet Routes J-45, J-151, and J-233, and high altitude RNAV route Q-19. The DSM, VOR radial restrictions have made this action necessary. The route modifications are outlined below.

J-45: J-45 extends between Virginia Key, FL, and Aberdeen, SD. The route segment between the St Louis, MO (STL), and DSM VORTACs is relocated over the Kirksville, MO (IRK), VORTAC and extended approximately four nautical miles (NM) to restore navigable route structure using serviceable DSM VOR radials.

J-151: J-151 extends between Cross City, FL, and Whitehall, MT. The route segment between STL and O'Neil, NE (ONL), VORTACs is realigned over the IRK and Omaha, NE (OVR), VORTACs, providing a nearly direct routing from STL to ONL and reducing the route segment by 12.5 NM.

J-233: J-233 extends between STL and Waterloo, IA (ALO). The route is realigned over the IRK VORTAC to resolve an extended service volume flight check failure impacting the navigable use of the route.

Q-19: Q-19 extends between Nashville, TN (BNA), and the PLESS fix, overlying a portion of J-45. The route is extended northwest from the PLESS fix over the STL VORTAC to the DSM VORTAC, retaining a direct routing capability between STL and DSM for aircraft capable of flying RNAV routes.

The navigation aid radials cited in the proposed Jet Route and high altitude RNAV route descriptions below, are stated relative to True north.

Jet Routes are published in paragraph 2004 and high altitude RNAV routes (Q) are published in paragraph 2006, respectively, of FAA Order 7400.9X dated August 7, 2013, and effective September 15, 2013, which is incorporated by reference in 14 CFR 71.1. The Jet Routes and high altitude RNAV route listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, Environmental Impacts: Policies and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004 Jet Routes.

J-45 [Amended]

From Virginia Key, FL; INT Virginia Key 014° and Treasure, FL, 143° radials; Treasure; INT Treasure 330° and Ormond Beach, FL, 183° radials; Ormond Beach; Craig, FL; Alma, GA; Macon, GA; Atlanta, GA; Nashville, TN; St Louis, MO; Kirksville, MO; Des Moines, IA; Sioux Falls, SD; to Aberdeen, SD.

* * * * *

J-151 [Amended]

From Cross City, FL; Vulcan, AL; Farmington, MO; St. Louis, MO; Kirksville, MO; Omaha, NE; O'Neil, NE; Rapid City, SD; Billings, MT; INT Billings 266° and Whitehall, MT, 103° radials; to Whitehall.

* * * * *

J-233 [Amended]

From St. Louis, MO; Kirksville, MO; to Waterloo, IA.

* * * * *

Paragraph 2006 United States Area Navigation Routes.

Q-19 Nashville, TN (BNA) to Aberdeen, SD (ABR) [Amended]
Nashville, TN (BNA) | VORTAC | (Lat. 36°08′13″ N., long. 86°41′05″ W.)
PLESS, IL | Fix | (Lat. 37°48′35″ N., long. 88°57′48″ W.)
St. Louis, MO (STL) | VORTAC | (Lat. 38°51′38″ N., long. 90°28′57″ W.)
Des Moines, IA (DSM) | VORTAC | (Lat. 41°26′15″ N., long. 93°38′55″ W.)
Sioux Falls, SD (FSD) | VORTAC | (Lat. 43°38′58″ N., long. 96°46′52″ W.)
Aberdeen, SD (ABR) | VOR/DME | (Lat. 45°25′02″ N., long. 98°22′07″ W.)

* * * * *

Issued in Washington, DC, on May 19, 2014.
Gary A. Norek,
Manager, Airspace Policy and Regulations Group.

[FR Doc. 2014-11999 Filed 5-23-14; 8:45 am]

BILLING CODE 4910-13-P